DEPARTMENT OF HEALTH AND HUMAN SERVICES

National Institutes of Health

Center for Scientific Review; Amended Notice of Meeting

Notice is hereby given of a change in the meeting of the Center for Scientific Review Special Emphasis Panel, February 17, 2010, 11 a.m. to February 17, 2010, 2 p.m., National Institutes of Health, 6701 Rockledge Drive, Bethesda, MD 20892, which was published in the Federal Register on January 26, 2010, 75 FR 4095.

The meeting title has been changed to “Member Conflict: CDIN and CNN Member Applications I.” The meeting is closed to the public.

Dated: January 28, 2010.
Jennifer Spaeth,
Director, Office of Federal Advisory Committee Policy.

[FR Doc. 2010-2435 Filed 2-4-10; 8:45 am]

BILLING CODE 4140-01-P